DEPARTMENT OF TRANSPORTATION

Federal Highway Administration

Environmental Impact Statement; Desha County, Arkansas and Bolivar County, Mississippi

AGENCY: Federal Highway Administration (FHWA), DOT.

ACTION: Notice of intent.

SUMMARY: The FHWA is issuing this notice to advise the public that an environmental impact statement will be prepared for a proposed location of I-69 from US 65 in Desha County, Arkansas to State Highway 1 in Bolivar County, Mississippi, including a crossing of the Mississippi River.

FOR FURTHER INFORMATION CONTACT: Mr. Randal Looney, Environmental Specialist, Federal Highway Administration (FHWA), Federal Office Building, 700 West Capitol Avenue, Room 3130 Little Rock, Arkansas 72201-3298, Telephone: (501) 324-6430; Mr. Bill Richardson, Asst. Division Head, Environmental Division, Arkansas Highway and Transportation Department (AHTD), 10324 Interstate 30, Little Rock, Arkansas 72201-2398, Telephone: (501) 569-2379; or Mr. Claiborne Barnwell, Environmental Division Engineer, Office of Intermodal Planning, Mississippi Department of Transportation (MDOT), 401 North West Street, Jackson, Mississippi 39215-1850, Telephone: (601) 359-7920.

SUPPLEMENTARY INFORMATION: The FHWA, in cooperation with the Arkansas Highway and Transportation Department and the Mississippi Department of Transportation will prepare an environmental impact statement (EIS) on a proposal to build a section of independent utility (SIU) for the proposed Interstate 69. The new facility would include a new roadway and bridge crossing of the Mississippi River connecting U.S. Highway 65 in Arkansas with Route 1 in Mississippi. Project distance is approximately 25 miles. Information developed by a previous EIS for the location of the Great River Bridge and other preliminary documents pertaining to the I-69 corridor will be used in this study.

Alternatives under consideration include: (1) The no build and (2) constructing a four-lane, limited access highway within the limits described above, on various alignment alternatives.

A scoping process has been initiated that involves all appropriate federal and state agencies and Native American Tribes. This will continue throughout the study as an ongoing process. A formal scoping meeting will be held for the project. A public information effort will be initiated in December, 2000, to include those agencies, local agencies, and private organizations and citizens who have previously expressed, or are known to have, interest in this proposal. This will include all coordination required under Section 106 of the Historic Preservation Act. Public informational meetings will be held in the study area to engage the regional community in the decision-making process and to obtain public input. In addition, public hearings will be held to present information developed by the environmental studies and to obtain comments and recommendations from the public. Public notice will be given concerning the time and place of informational meetings and public hearings. The Draft EIS will be made available for public and agency review and comment prior to the public hearings.

To ensure that the full range of issues related to this proposed action are addressed and all significant issues identified, comments and suggestions are invited from all interested parties. Comments or questions concerning this proposed action and EIS should be directed to the FHWA, or AHDT, or MDOT at the addresses provided above.

(Catalog of Federal Domestic Assistance Program Number 20.205, Highway Research, Planning and Construction. The regulations implementing Executive Order 12372 regarding intergovernmental consultation on Federal programs and activities apply to this program)
Issued on: December 11, 2000.
Gary A. DalPorto,
Planning and Research Engineer, Federal Highway Administration, Little Rock, Arkansas.

[FR Doc. 00-32206 Filed 12-18-00; 8:45 am]

BILLING CODE 4910-22-M